NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that 15 meetings of the Humanities Panel will be held during October 2012 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: October 04, 2012.

Time: 8:30 a.m. to 5 p.m.

Room: 415.

This meeting will discuss applications for the Humanities Collections and Reference Resources grant program on the subject of U.S. History and Culture, submitted to the Division of Preservation and Access.

2. Date: October 10, 2012.

Time: 8:30 a.m. to 5 p.m.

Room: 415.

This meeting will discuss applications for the Humanities Collections and Reference Resources grant program on the subject of World Studies, submitted to the Division of Preservation and Access.

3. Date: October 11, 2012.

Time: 8:30 a.m. to 5 p.m.

Room: 415.

This meeting will discuss applications for the Humanities Collections and Reference Resources grant program on the subject of Archaeology and Anthropology, submitted to the Division of Preservation and Access.

4. Date: October 12, 2012.

Time: 8:30 a.m. to 5 p.m.

Room: 415.

This meeting will discuss applications for the Humanities Collections and Reference Resources grant program on the subject of World Studies, submitted to the Division of Preservation and Access.

5. Date: October 15, 2012.

Time: 8:30 a.m. to 5 p.m.

Room: 421.

This meeting will discuss applications for the America's Media Makers Production grant program on the subject of U.S. History, submitted to the Division of Public Programs.

6. Date: October 16, 2012.

Time: 8:30 a.m. to 5 p.m.

Room: 415.

This meeting will discuss applications for the Humanities Collections and Reference Resources grant program on the subject of American Studies, submitted to the Division of Preservation and Access.

7. Date: October 16, 2012.

Time: 8:30 a.m. to 5 p.m.

Room: 421.

This meeting will discuss applications for the America's Historical & Cultural Organizations Implementation grant program on the subject of U.S. History, submitted to the Division of Public Programs.

8. Date: October 18, 2012.

Time: 8:30 a.m. to 5 p.m.

Room: 415.

This meeting will discuss applications for the Humanities Collections and Reference Resources grant program on the subject of Art History, submitted to the Division of Preservation and Access.

9. Date: October 18, 2012.

Time: 8:30 a.m. to 5 p.m.

Room: Room 421.

This meeting will discuss applications for the America's Media Makers Production grant program on the subject of U.S. History, submitted to the Division of Public Programs.

10. Date: October 22, 2012.

Time: 8:30 a.m. to 5 p.m.

Room: Room 421.

This meeting will discuss applications for the America's Historical & Cultural Organizations Implementation grant program on the subject of Nature and Culture, submitted to the Division of Public Programs.

11. Date: October 24, 2012.

Time: 8:30 a.m. to 5 p.m.

Room: 421.

This meeting will discuss applications for the America's Historical & Cultural Organizations Implementation grant program on the subject of U.S. History, submitted to the Division of Public Programs.

12. Date: October 25, 2012.

Time: 8:30 a.m. to 5 p.m.

Room: Room 421.

This meeting will discuss applications for the America's Media Makers Production grant program on the subject of World History and Culture, submitted to the Division of Public Programs.

13. Date: October 29, 2012.

Time: 8:30 a.m. to 5 p.m.

Room: Room 421.

This meeting will discuss applications for the America's Historical & Cultural Organizations Implementation grant program on the subject of Art History, submitted to the Division of Public Programs.

14. Date: October 30, 2012.

Time: 8:30 a.m. to 5 p.m.

Room: 415.

This meeting will discuss applications for the Humanities Collections and Reference Resources grant program on the subject of Literature, submitted to the Division of Preservation and Access.

15. Date: October 30, 2012.

Time: 8:30 a.m. to 5 p.m.

Room: Room 421.

This meeting will discuss applications for the America's Media Makers Production grant program on the subject of African American History and Culture, submitted to the Division of Public Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: September 11, 2012.
Lisette Voyatzis,
Committee Management Officer.

[FR Doc. 2012-22697 Filed 9-13-12; 8:45 am]

BILLING CODE 7536-01-P